ENVIRONMENTAL PROTECTION AGENCY

[EPA-R03-OAR-2021-0237; FRL-10022-17-Region 3]

Access to Confidential Business Information by Booz Allen Hamilton Inc., Subcontractor of Contractor Arctic Slope Mission Services, LLC

AGENCY: Environmental Protection Agency (EPA).

ACTION: Notice of subcontractor access to confidential business information.

SUMMARY: The Environmental Protection Agency (EPA or Agency) is allowing Booz Allen Hamilton Inc. of McLean, VA, subcontractor of contractor Arctic Slope Mission Services, LLC of Beltsville, MD, to access information which has been submitted to EPA under the environmental statutes administered by the Agency at its Region 3 offices. Some of the information may be claimed or determined to be confidential business information.

DATES: Comments must be received on or before April 26, 2021. Access to the confidential data began on or about February 15, 2017 and September 29, 2017.

ADDRESSES: You may submit your comments by one of the following methods:

1. Federal eRulemaking Portal: https://www.regulations.gov. Follow the on-line instructions for submitting comments.

2. Email: klotz.michaelk@epa.gov.

Instructions: Direct your comments to Docket ID No. EPA-R03-OAR-2021-0237. EPA's policy is that all comments received will be included in the public docket without change and may be available online at https://www.regulations.gov, including any personal information provided, unless the comment includes information claimed to be confidential business information (CBI) or other information whose disclosure is restricted by statute. Do not submit information that you consider to be CBI or otherwise protected through https://www.regulations.gov, or email. The federal website, https://www.regulations.gov, is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment. If EPA cannot read your comment due to technical difficulties, and cannot contact you for clarification, EPA may not be able to consider your comment. Electronic files should avoid the use of special characters, any form of encryption, and be free of any defects or viruses. EPA encourages electronic submittals, but if you are unable to submit electronically, please reach out to the EPA contact person listed in the notice for assistance. If you need assistance in a language other than English, or you are a person with disabilities who needs a reasonable accommodation at no cost to you, please reach out to the EPA contact person by email or telephone.

FOR FURTHER INFORMATION CONTACT: Michael Klotz, (215) 814-5382; email address: klotz.michaelk@epa.gov; mailing address: EPA Region 3, Mission Support Division (Mail Code 3MD50), 1650 Arch Street, Philadelphia, PA 19103.

SUPPLEMENTARY INFORMATION:

I. General Information

A. Does this action apply to me?

This action is directed to the general public. This action may, however, be of interest to anyone who submitted what may be determined to be confidential business information to EPA Region 3. Since other entities may also be interested, the Agency has not attempted to describe all the specific entities that may be affected by this action.

B. How can I get copies of this document and other related information?

All documents in the docket are listed in the https://www.regulations.gov index, under docket identification number EPA-R3-OAR-2021-0237. Although listed in the index, some information might not be publicly available, e.g., CBI or other information whose disclosure is restricted by statute. Publicly available docket materials are accessible electronically through https://www.regulations.gov.

II. What action is the Agency taking?

EPA Region 3 manages records for all its divisions using the support of contractors and subcontractors. The contractors and subcontractors assist with indexing and filing both physical and digital records, and with determining the disposition of records to ensure compliance with the Federal Records Act. Under EPA contract EP-W17-011 (the contract), and EPA Region 3 task orders 0037 and 0054, Arctic Slope Mission Services, LLC (ASMS) of 7000 Muirkirk Meadows Drive, Suite 100, Beltsville, MD 20705, is responsible for reviewing, sorting, filing, and indexing records, and identifying files as closed, active, or inactive, to determine whether they should be disposed of or stored at either the EPA Region 3 offices or the Federal Records Center. Pursuant to its contract, ASMS entered into a subcontract with Booz Allen Hamilton Inc. (BAH) of 8283 Greensboro Drive, Mclean, VA 22102. BAH is responsible for performing under these task orders. Task order 0037 concerns records for the Office of Regional Counsel and records for the Hazardous Site Cleanup Division, now called the Superfund and Emergency Management Division, while task order 0054 addresses all other regional records.

EPA has permitted, and will continue to permit, BAH personnel to have access to information submitted to EPA under the statutes administered by the Agency. Some of the information may be claimed or determined to be CBI. In accordance with 40 CFR 2.301(h)(2)(i) (Clean Air Act (CAA)), and any provisions from 40 CFR 2.302 through2.310 incorporating 40 CFR 2.301(h)(2)(i) (Clean Water Act (CWA), Safe Drinking Water Act (SDWA), Resource Conservation and Recovery Act (RCRA), Comprehensive Environmental Response, Compensation, and Liability Act (CERCLA)), 40 CFR 2.306(j) (Toxic Substances Control Act (TSCA)), 40 CFR 2.307(h)(3) (Federal Insecticide, Fungicide, and Rodenticide Act (FIFRA)), 40 CFR 2.308(i) (Federal Food, Drug and Cosmetic Act (FDCA)), 40 CFR 350.23(b) (Emergency Planning and Community Right-to-Know Act (EPCRA)), EPA has determined that under task orders 0037 and 0054, BAH requires access to CBI submitted to EPA, to perform successfully the duties required under the task orders.

Among the procedures established by EPA's confidentiality regulations for granting access to CBI is prior notification to the submitters of CBI that BAH will have access to this information. See 40 CFR 2.301(h)(2)(iii) for information submitted under the CAA, corresponding provisions of 40 CFR 2.302 through 2.311 for information submitted under the CWA, SDWA, RCRA, TSCA, FIFRA, FDCA, CERCLA, and 40 CFR 350.23 for EPCRA. This notification is intended to fulfill that requirement. EPA Region 3 has permitted BAH personnel access to this information prior to publishing this document. All access to CBI under the contract and task orders has occurred and will continue to occur in accordance with EPA's polices and regulations for the handling of CBI at the EPA Region 3 offices located at 1650 Arch Street, Philadelphia, PA, 410 Severn Avenue, Annapolis, MD 21403-2567, 701 Mapes Road, Ft. Meade, MD 20755-5350, and 1060 Chapline Street, Suite 303, Wheeling, WV 26003-2995. The contract and task orders include terms that require the proper treatment and safeguarding of CBI. As BAH is responsible for performing under task orders 0037 and 0054, its personnel have access to CBI pursuant to those task orders. BAH personnel sign nondisclosure agreements and are briefed on appropriate security procedures before they are permitted access to CBI. In addition, they attend annual, mandatory training on the proper treatment and protection of CBI.

BAH access to CBI for task order 0037 began on February 15, 2017 and will expire on February 14, 2022, if all four option years are exercised. BAH access to CBI for task order 0054 began on September 29, 2017 and will expire on September 28, 2022, if all four option years are exercised. If the contract or task orders are further extended, this access will also continue for the duration of the extension without further notice.

Catharine McManus,
Mission Support Division Director, Region 3.

[FR Doc. 2021-06931 Filed 4-2-21; 8:45 am]

BILLING CODE 6560-50-P